DEPARTMENT OF THE TREASURY

Financial Management Service

Privacy Act of 1974, as Amended; System of Records

AGENCY: Financial Management Service, Treasury.

ACTION: Notice of proposed new system of records.

SUMMARY: In accordance with the Privacy Act of 1974, as amended, the Financial Management Service gives notice of a proposed new Privacy Act system of records entitled “Treasury/FMS .004—Education and Training Records.”

DATES: Comments must be received no later than July 6, 2004. The proposed new system of records will become effective July 13, 2004, unless comments are received which would result in a contrary determination.

ADDRESSES: You should send your comments to Tom Longnecker, Disclosure Officer, Financial Management Service, 401 14th Street, SW., Washington, DC 20227. Comments received will be available for inspection at the same address between the hours of 9 a.m. and 4 p.m. Monday through Friday. You may send your comments by electronic mail to tom.longnecker@fms.treas.gov.

FOR FURTHER INFORMATION CONTACT: Tom Longnecker, Disclosure Officer, (202) 874-6837.

SUPPLEMENTARY INFORMATION: Pursuant to the Privacy Act of 1974, as amended, 5 U.S.C. 552a, the Financial Management Service (FMS) is proposing to establish a new system of records entitled “Treasury/FMS .004—Education and Training Records.” FMS offers various training opportunities, including financial management and accounting training, for employees of government agencies, as well as other individuals (for example, contractors who may work with the government in the financial management area or representatives of foreign governments) on a fee-for-service basis. For purposes of this notice, individuals who enroll and participate in the training classes are referred to as “training participants”. In order to administer the training and collect service fees and maintain accurate records, FMS must collect and maintain information related to the training participants' enrollment and participation. To ensure that class and enrollment status, class completion information, transcripts and certificates of completion are maintained accurately, FMS collects and maintains the training participant's name, social security number (SSN) and contact information (for example, title, address, organization, work phone number and email address). The training participant's SSN will be used to verify the accurate retention of records pertaining to the participant and to distinguish them from other participants or payers in this system. Furnishing of their SSN and the other requested information is voluntary. However, failure to provide any part of the requested information may delay the processing of their access request and may require additional unique information before the participant is granted access to FMS training. To validate records concerning service fee payments made by or on behalf of training participants, FMS also collects and maintains payment information (for example, credit card information or information contained in the Federal Government's Standard Form 182—Request, Authorization, Agreement, and Certification of Training or DD 1556—Request, Authorization, Agreement, Certification of Training and Reimbursement).

FMS continually seeks to modernize its training program. Through its Learning Management System (LMS), FMS is initiating a new self-service program that allows, among other things, the FMS customer to check class offerings and the status of a class, enroll in a class or cancel an enrollment, and initiate payment for training via the Internet. FMS collects information submitted by the training participant via the LMS government Web site, which is subject to various security measures described in this notice. Collecting information from the training participant via the Internet allows FMS to efficiently provide training and payment processing services to its customers. With continual improvement in technology, FMS expects to develop more automated means to collect and report service fees for training and financial information in the future.

As the LMS is password protected, a visit to the initial Learner ID/Password page (log-on screen) of the LMS Internet site is not tracked nor are cookies employed. The number of ‘hits’ to the log-on screen is tracked. However, no individual record information is recorded or tracked. If the visitor subsequently creates an account on the LMS or successfully accesses the LMS by using the proper Learner Code and Password, and thereby become a training participant, session cookies are used to track subsequent ‘internal’ LMS locations visited by that participant. Additionally, incorrect log-on attempts exceeding the maximum allowed for an established training participant account may be tracked in order to lock out the affected account for security purposes.

Once LMS access is gained, the LMS maintains a log of the various internal Web pages a training participant visits in order to make the LMS site more useful to training participants; for IT security purposes to monitor for improper behavior violating the LMS-FMS Rules of Behavior, and to facilitate collection of payment from the government agencies and individuals by documenting training participant activity (i.e., enrollment fee, late or cancellation fees).

FMS recognizes that security needs (i.e., the need to verify the identity of the individual) must be balanced with privacy concerns (i.e., the need to protect an individual's personal information), and therefore, seeks to limit the collection of personal information to only that which is needed for the processing of training information. FMS maintains safeguards, both electronically and in its training processes, to protect personal and financial data from risks such as the unauthorized access to records and inadvertent disclosure of confidential information. FMS employs safeguards to ensure that the training data is accessible by authorized users only.

Not every transaction will require the collection or disclosure of all of the information listed under “Categories of records in the system.” The categories of records cover the broad spectrum of information that might be required for various types of transactions that specifically support FMS' training and education program. It is noted that the proposed system covers records obtained in connection with the various mechanisms that are either used currently (for example, LMS) or may be used in the future for electronic training program processes. FMS has attempted to cover the information needed for the various types of transactions processed in today's technological environment, as well as the information that might be required in connection with future security needs or yet-to-be developed mechanisms (i.e., those systems or mechanisms developed in the future that specifically address required delivery and/or collection of personnel related information or authentication of the user).

FMS recognizes the sensitive nature of the personal and financial information collected from the training participant and has safeguards in place to protect the information from theft or inadvertent disclosure. As appropriate, FMS' contractual arrangements with commercial software and hardware vendors include provisions that require compliance with the Privacy Act and preclude the vendors from retaining, disclosing, and using for other purposes the information provided by FMS to the vendor. In addition to various procedural and physical safeguards, access to computerized records is limited, through the use of encryption, access codes, and other internal mechanisms, to those whose official duties require access solely for the purposes outlined in the proposed system. Access to the system is granted only as authorized by the FMS LMS security manager after appropriate security procedures are followed, such as background checks and/or non-disclosure statements are signed. The information in the Education and Training Records system will allow the training participant to enjoy the benefits of training and education related technology while minimizing the risks of fraudulent activity and possible disclosure of personal information.

The new system of records report, as required by 5 U.S.C. 552a(r) of the Privacy Act, has been submitted to the Committee on Government Reform of the House of Representatives, the Committee on Governmental Affairs of the Senate, and the Office of Management and Budget, pursuant to Appendix I to OMB Circular A-130, “Federal Agency Responsibilities for Maintaining Records About Individuals,” dated November 30, 2000.

For the reasons set forth in the preamble, FMS proposes a new system of records Treasury/FMS .004-Education and Training Records which is published in its entirety below.

Dated: May 26, 2004.
Jesus H. Delgado-Jenkins,
Acting Assistant Secretary for Management.

TREASURY/FMS .004

System name:

Education and Training Records—Treasury/FMS.

System location:

Financial Management Service, U.S. Department of the Treasury, 401 14th ST., SW., Washington, DC 20227; Financial Management Service, U.S. Department of the Treasury, 1990 K Street, NW., Suite 300, Washington, DC 20006.

Categories of individuals covered by the system:

All Government employees (including separated employees, in certain cases) and other individuals who access and apply for FMS training services.

Categories of records in the system:

(1) Personal Profile—Account Record;

(2) Transcript Record;

(3) Enrollment Status Record;

(4) Job Skills Record;

(5) Individual Development Plan Record;

(6) Assessment Performance Results Record;

(7) Managerial Approval/Disapproval Status Record;

(8) Class Roster Record;

(9) Certificate—Training Program Status Record;

(10) Class Evaluation Record;

(11) Payment Record;

(12) Statistical Reports—retrievable by names: (a) Personnel Transcript Report, (b) Class Enrollment Report, (c) Class Payment/Billing Report, (d) Status of Training Report, (e) Ad hoc Training Report, and (f) Other similar files or registers.

Authority for maintenance of the system:

5 U.S.C. 301; 31 U.S.C. 321; 31 U.S.C. chapter 33; 31 U.S.C. 3720.

Purpose(s):

The purpose of this system is to maintain records about Government employees and other individuals who participate in FMS' education and training program. The information contained in the records will assist FMS in properly tracking individual training and accurately account for training revenue and expenditures generated through the FMS' training programs (for example, Learning Management System (LMS)). For FMS personnel, the records contained in FMS' training records will also assist managers' active participation in their employees' learning plans. FMS maintains the information necessary to ensure that FMS keeps accurate records related to classes, including a training participant's training and enrollment status, class completion information, transcripts and certificates of accomplishment. FMS also maintains the records to ensure that financial records pertaining to a training participant's payment for training fees are maintained accurately. FMS' training records will serve to report receipts to the appropriate Federal agency (currently the Treasury Department's Bureau of Public Debt) responsible for maintaining FMS' financial records for training. Finally, the information contained in the covered records will be used for collateral purposes related to the training processes, such as the collection of statistical information on training programs, development of computer systems, investigation of unauthorized or fraudulent activity related to submission of information to FMS for training program purposes and the collection of debts arising out of such activity.

Routine uses of records maintained in the system, including categories of users and the purposes of such uses:

These records may be used to disclose information to:

(1) Appropriate Federal, State, local or foreign agencies responsible for investigating or prosecuting the violation of, or for enforcing or implementing, a statute, rule, regulation, order, or license;

(2) A court, magistrate, or administrative tribunal, in the course of presenting evidence, including disclosures to opposing counsel or witnesses, for the purpose of civil discovery, litigation, or settlement negotiations or in response to a subpoena, where relevant or potentially relevant to a proceeding, or in connection with criminal law proceedings;

(3) A congressional office in response to an inquiry made at the request of the individual to whom the record pertains;

(4) Federal agencies, financial institutions, and contractors for the purpose of performing financial management services, including, but not limited to, processing payments, investigating and rectifying possible erroneous reporting information, testing and enhancing related computer systems, creating and reviewing statistics to improve the quality of services provided, or conducting debt collection services;

(5) Federal agencies, their agents and contractors for the purposes of facilitating the collection of receipts, determining the acceptable method of collection, the accounting of such receipts, and the implementation of programs related to the receipts being collected as well as status of their personnel training, statistical training information;

(6) Financial institutions, including banks and credit unions, and credit card companies for the purpose of collections and/or investigating the accuracy of information required to complete transactions using electronic methods and for administrative purposes, such as resolving questions about a transaction;

(7) Provide information to unions recognized as exclusive bargaining representatives under the Civil Service Reform Act of 1978, 5 U.S.C. 7111 and 7114;

(8) Foreign governments in accordance with formal or informal international agreements and maintain proper administrative or financial controls related to the training activity;

(9) Provide information to third parties during the course of an investigation to the extent necessary to obtain information pertinent to the investigation;

(10) Federal agencies, their agents and contractors, credit bureaus, and employers of individuals who owe delinquent debt when the debt arises from the unauthorized use of electronic payment methods. The information will be used for the purpose of collecting such debt through offset, administrative wage garnishment, referral to private collection agencies, litigation, reporting the debt to credit bureaus, or for any other authorized debt collection purpose, and

(11) Representatives of the National Archives and Records Administration (NARA) who are conducting records management inspections under authority of 44 U.S.C. 2904 and 2906.

Policies and practices for storing, retrieving, accessing, retaining, and disposing of records in the system: Storage:

Records are maintained in electronic media, such as server hard drive, magnetic back-up tape storage, removable optical storage backup media (such as compact disc (CD) or Digital Video Disc {DVD}) and hard copy.

Retrievability:

All captured data (both personal and course) and information can be retrieved as required for the proper administration of the system, within the LMS software's capability. Generally, for training purposes, these records will be retrieved by Class Name and/or Organization Name and Participant Name. For financial purposes, these records will generally be by Name, Organization and payment information (Credit Card, Form 182, DD Form 1556, for example).

Safeguards:

All records are maintained in a secured building, secured room, and locked cabinets. FMS personnel access to training data is primarily for the purpose of using the training services or administering the LMS. For technical and administrative purposes, non-FMS personnel access is limited to contractors who are maintaining the LMS system in the normal performance of their duties and have completed non-disclosure statements and undergone security background checks consistent with their access in accordance with the existing contract.

Retention and disposal:

Records are maintained and disposed of in accordance with General Records Schedules issued by the National Archives and Records Administration.

System manager and address:

Assistant Commissioner, Treasury Agency Services, Financial Management Service, U.S. Department of the Treasury, 1990 K Street, NW., Suite 300, Washington, DC 20006.

Notification procedure:

Inquiries under the Privacy Act of 1974 shall be addressed to the Disclosure Officer, Financial Management Service, 401 14th St., SW., Washington, DC 20227. All individuals making inquiries should provide with their request as much descriptive matter as is possible to identify the particular record desired. The system manager will advise as to whether the Service maintains the record requested by the individual.

Record access procedures:

Individuals requesting information under the Privacy Act of 1974, as amended, concerning procedures for gaining access to or contesting records should write to the Disclosure Officer. All individuals are urged to examine the rules of the U.S. Department of the Treasury published in 31 CFR part 1, subpart C, and appendix G, concerning requirements of this Department with respect to the Privacy Act of 1974.

Contesting record procedures:

See RECORD ACCESS PROCEDURES above.

Record source categories:

Information in this system is provided by: The individual on whom the record is maintained; the individual's employer, other governmental agency or educational institutions.

Exemptions claimed for the system:

None.

[FR Doc. 04-12559 Filed 6-2-04; 8:45 am]

BILLING CODE 4810-35-P